ENVIRONMENTAL PROTECTION AGENCY

[FRL-8980-9]

NACEPT Subcommittee on Promoting Environmental Stewardship

AGENCY: Environmental Protection Agency (EPA).

ACTION: Notice of meeting.

SUMMARY: Under the Federal Advisory Committee Act, Public Law 92-463, EPA gives notice of a meeting of the NACEPT Subcommittee on Promoting Environmental Stewardship.

The purpose of the Subcommittee on Promoting Environmental Stewardship (SPES) of the National Advisory Council for Environmental Policy and Technology (NACEPT) is to advise the U.S. Environmental Protection Agency on how to promote environmental stewardship practices that encompass all environmental aspects of an organization in the regulated community and other sectors, as appropriate, in order to enhance human health and environmental protection. A copy of the meeting agenda will be posted at http://epa.gov/ncei/dialogue.htm. This Web site also includes the charge of the SPES, which provides further information about the purpose of the Subcommittee.

The meeting agenda will focus on the Subcommittee's potential recommendations to the Agency on how to promote environmental stewardship.

DATES: The NACEPT Subcommittee on Promoting Environmental Stewardship will hold an open meeting on December 1 (8 a.m.-5 p.m.) and December 2, 2009 8 a.m.-5 p.m.) Eastern.

ADDRESSES: The Westin Arlington Gateway, 801 North Glebe Road, Arlington, VA 22203, Ballroom B (second floor). (two blocks from Ballston Metro Station.)

FOR FURTHER INFORMATION CONTACT: Regina Langton, Designated Federal Officer, langton.regjna@epa.gov, 202-566-2178, U.S. EPA Office of Policy, Economics, and Innovation (MC1807T), 1200 Pennsylvania Avenue, NW., Washington, DC 20460.

SUPPLEMENTARY INFORMATION: Requests to make brief oral comments or provide written statements to the SPES should be sent to Jennifer Peyser at (202) 965-6215 or jpeyser@RESOLV.org. All requests must be received no later than November 24, 2009.

Meeting Access: For information on access or services for individuals with disabilities, please contact Jennifer Peyser at jpeyser@RESOLV.org. To request accommodation of a disability, please contact Jennifer Peyser at least 10 days prior to the meeting to give EPA as much time as possible to process your request.

Dated: November 6, 2009.
Regina Langton,
Designated Federal Officer.

[FR Doc. E9-27286 Filed 11-12-09; 8:45 am]

BILLING CODE 6560-50-M